DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[7/30/2010 through 8/17/2010]
Firm | Address | Date accepted for filing | Products
Central Machine, Inc | 1318 China Road, Winslow, ME 04901 | 7/30/2010 | The company manufactures parts for the military, power generation industry, the wood chipping industry and private sector companies from steels, stainless steel, aluminum, and plastics.
Atlas Machining & Welding, Inc | 777 Smith Lane, Northampton, PA 18067 | 8/2/2010 | The company is a machining & welding job shop that performs laser cutting, fabrication and machining of parts for the cement industry and manufactures parts and assemblies.
Bracalente Manufacturing Company, Inc | 20 W. Creamery Road, Trumbauersville, PA 18970 | 8/2/2010 | The company manufactures fabricated metal products.
Ebeling Associates, Inc. dba EXEControl | 9 Corporate Drive, Clifton Park, NY 12065 | 8/2/2010 | The Company develops markets and supports the EXEControl™ Global Solutions Information System and provides business consulting services. The Company also develops ERP (Enterprise Resource Planning) information system software with services including software.
Game Equipment, LLC | 3322 Hwy. 308, Napoleonville, LA 70390 | 8/2/2010 | The company manufactures motorized equipment for the seeding and harvesting of organic produce.
Performance Processing Ventures, LLC | 660 Martin Luther King, Jr. Blvd, Farrell, PA 16121 | 8/2/2010 | The company performs the shape cutting of steel parts for industry and general fabricating.
TEM, Inc | 8 Pierce Drive, Buxton, ME 04093 | 8/2/2010 | The company manufactures machined inlet and outlet pipes and end caps for gas furnaces through milling, drilling, bending and stamping raw materials (stainless steel).
Bauer, Inc | 175 Century Drive, Bristol, CT 06010 | 8/4/2010 | The company manufactures aircraft and motor vehicle measurement equipment using steel or stainless steel.
R.L. Bryan Company | 301 Greystone Blvd., Columbia, SC 29210 | 8/5/2010 | The company produces commercial printed products whose primary material is paper and ink.
Magna IV Color Imaging, Inc | 2401 Commercial Lane, Little Rock, AR 72206-1680 | 8/6/2010 | The company performs commercial and digital printing.
Specialized Turning, Inc | 7 Summit Industrial, Park Peabody, MA 01960 | 8/6/2010 | The company performs the machining of engineered components from stainless steel, plastics, titanium and aerospace alloys.
American Process Lettering, Inc. dba Ampro Sports | 30 Bunting Lane, Primos, PA 19018 | 8/10/2010 | The company manufactures screen printed and embroidered apparel for brands selling to retail, sports teams, corporations.
Integrated Security, Inc | 369 Central Street, Foxboro, MA 02035 | 8/10/2010 | The company manufactures high value added electronic and mechanical security systems and assembles complete systems for various components for clients in the corporate, higher education, property management and health care environments.
Synthetech, Inc | 1290 Industrial Way, P.O. Box 646, Albany, OR 97321 | 8/10/2010 | The company produces chemical intermediates used in research development, clinical development, and commercial supply for the pharmaceutical industry.
Flex-Tec, Inc | P.O. Box 528, Byromville, GA 31007 | 8/11/2010 | The company produces electrical wiring harnesses and lighting fixture components whose primary manufacturing material is copper wire and terminals.
Lawrence Fabric Structures, Inc | 3509 Tree Court, Industrial Blvd., St. Louis, MO 63122-6619 | 8/16/2010 | The company manufactures awnings, canopies, tension structures, and exhibit components and banners.
Wichita Sheet Metal Supply, Inc | 1601 Sheridan Street, Wichita, KS 67213-1339 | 8/16/2010 | The company manufactures warm air heating and air conditioning equipment and supplies and performs sheet metal work.
Wikoff Color Corporation | 1886 Merritt Road, Fort Mill, SC 29715 | 8/16/2010 | The company produces inks and coatings whose manufacturing materials include pigments, resins, solvents & additives.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: August 19, 2010.
Bryan Borlik,
Program Director.

[FR Doc. 2010-21088 Filed 8-24-10; 8:45 am]

BILLING CODE 3510-24-P